DEPARTMENT OF TRANSPORTATION

Federal Aviation Administration

14 CFR Part 71

[Docket No. FAA-2024-2672; Airspace Docket No. 24-ASW-13]

RIN 2120-AA66

Amendment of VOR Federal Airways V-161, V-163, and V-568; and Establishment of United States RNAV Route T-545 in the Vicinity of Three Rivers, TX

AGENCY: Federal Aviation Administration (FAA), DOT.

ACTION: Notice of proposed rulemaking (NPRM).

SUMMARY: This action proposes to amend Very High Frequency Omnidirectional Range (VOR) Federal Airways V-161, V-163, and V-568; and to establish United States Area Navigation (RNAV) Route T-545. The FAA is proposing this action due to the planned decommissioning of the VOR portion of the Three Rivers, TX (THX), VOR/Tactical Air Navigation (VORTAC) navigational aid (NAVAID). The Three Rivers VOR is being decommissioned in support of the FAA's VOR Minimum Operational Network (MON) program.

DATES: Comments must be received on or before January 30, 2025.

ADDRESSES: Send comments identified by FAA Docket No. FAA-2024-2672 and Airspace Docket No. 24-ASW-13 using any of the following methods:

* Federal eRulemaking Portal: Go to www.regulations.gov and follow the online instructions for sending your comments electronically.

* Mail: Send comments to Docket Operations, M-30; U.S. Department of Transportation, 1200 New Jersey Avenue SE, Room W12-140, West Building Ground Floor, Washington, DC 20590-0001.

* Hand Delivery or Courier: Take comments to Docket Operations in Room W12-140 of the West Building Ground Floor at 1200 New Jersey Avenue SE, Washington, DC, between9 a.m. and 5 p.m., Monday through Friday, except Federal holidays.

* Fax: Fax comments to Docket Operations at (202) 493-2251.

Docket: Background documents or comments received may be read at www.regulations.gov at any time. Follow the online instructions for accessing the docket or go to the Docket Operations in Room W12-140 of the West Building Ground Floor at 1200 New Jersey Avenue SE, Washington, DC, between 9 a.m. and 5 p.m., Monday through Friday, except Federal holidays.

FAA Order JO 7400.11J, Airspace Designations and Reporting Points, and subsequent amendments can be viewed online at www.faa.gov/air_traffic/publications/. You may also contact the Rules and Regulations Group, Policy Directorate, Federal Aviation Administration, 600 Independence Avenue SW, Washington, DC 20597; telephone: (202) 267-8783.

FOR FURTHER INFORMATION CONTACT: Colby Abbott, Rules and Regulations Group, Policy Directorate, Federal Aviation Administration, 600 Independence Avenue SW, Washington, DC 20597; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would modify the National Airspace System (NAS) as necessary to preserve the safe and efficient flow of air traffic.

Comments Invited

The FAA invites interested persons to participate in this rulemaking by submitting written comments, data, or views. Comments are specifically invited on the overall regulatory, aeronautical, economic, environmental, and energy-related aspects of the proposal. The most helpful comments reference a specific portion of the proposal, explain the reason for any recommended change, and include supporting data. To ensure the docket does not contain duplicate comments, commenters should submit only one time if comments are filed electronically, or commenters should send only one copy of written comments if comments are filed in writing.

The FAA will file in the docket all comments it receives, as well as a report summarizing each substantive public contact with FAA personnel concerning this proposed rulemaking. Before acting on this proposal, the FAA will consider all comments it receives on or before the closing date for comments. The FAA will consider comments filed after the comment period has closed if it is possible to do so without incurring expense or delay. The FAA may change this proposal in light of the comments it receives.

Privacy: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Availability of Rulemaking Documents

An electronic copy of this document may be downloaded through the internet at www.regulations.gov. Recently published rulemaking documents can also be accessed through the FAA's web page at www.faa.gov/air_traffic/publications/airspace_amendments/.

You may review the public docket containing the proposal, any comments received and any final disposition in person in the Dockets Operations office (see ADDRESSES section for address, phone number, and hours of operations). An informal docket may also be examined during normal business hours at the office of the Operations Support Group, Central Service Center, Federal Aviation Administration, 10101 Hillwood Parkway, Fort Worth, TX 76177.

Incorporation by Reference

VOR Federal Airways are published in paragraph 6010(a) and United States Area Navigation Routes (T-routes) are published in paragraph 6011 of FAA Order JO 7400.11, Airspace Designations and Reporting Points, which is incorporated by reference in 14 CFR 71.1 on an annual basis. This document proposes to amend the current version of that order, FAA Order JO 7400.11J, dated July 31, 2024, and effective September 15, 2024. These updates would be published in the next update to FAA Order JO 7400.11. That order is publicly available as listed in the ADDRESSES section of this document.

FAA Order JO 7400.11J lists Class A, B, C, D, and E airspace areas, air traffic service routes, and reporting points.

Background

The FAA is planning to decommission the VOR portion of the Three Rivers, TX, VORTAC in August 2025. The Three Rivers VOR was one of the candidate VORs identified for discontinuance by the FAA's VOR MON program and listed in the final policy statement notice, “Provision of Navigation Services for the Next Generation Air Transportation System (NextGen) Transition to Performance-Based Navigation (PBN) (Plan for Establishing a VOR Minimum Operational Network),” published in the Federal Register on July 26, 2016 (81 FR 48694), Docket No. FAA-2011-1082.

Although the VOR portion of the Three Rivers VORTAC is planned for decommissioning, the co-located Tactical Air Navigation (TACAN) portion of the NAVAID is being retained. The TACAN would continue to provide navigational service for military operations and Distance Measuring Equipment (DME) service supporting current and future NextGen PBN flight procedure requirements.

The VOR Federal Airways affected by the Three Rivers VOR decommissioning are V-161, V-163, and V-568. With the planned decommissioning of the Three Rivers VOR, the remaining ground-based NAVAID coverage in the area is insufficient to enable the continuity of V-161 and V-568. As such, proposed modifications to V-161 and V-568 would result in the airways being shortened. Proposed modifications to V-163 would retain the airway with a minor alignment change by replacing the Three Rivers VORTAC and YENNS Fix route points with a new single intersection Fix using radials from the Corpus Christi, TX, VORTAC and the San Antonio, TX, VORTAC.

To mitigate the loss of the V-161 and V-568 airway segments, instrument flight rules (IFR) pilots could use V-68 and the proposed amended V-163 airway to navigate through and around the affected area. IFR pilots with RNAV-equipped aircraft could navigate using RNAV Route T-499, the proposed new RNAV Route T-545, or point-to-point using the existing Fixes that would remain in place to support continued operations though the affected area. Additionally, IFR pilots could request and receive air traffic control (ATC) radar vectors to fly through or around the affected area. Visual flight rules pilots who elect to navigate via airways could also take advantage of the proposed amended V-163, the ATC services listed previously, as well as the listed RNAV routes and point-to-point navigation, if properly equipped.

The proposed establishment of United States RNAV Route T-545 would mitigate portions of the proposed modifications to V-161 and V-568 and overlay V-163 to provide positive course guidance for RNAV-equipped aircraft between the Brownsville, TX, area and the San Antonio, TX, area. The proposed T-545 would also ensure RNAV-equipped aircraft safely circumnavigate the Kingsville 4, TX, and the Randolph 1B, TX, Military Operations Areas (MOA).

The Proposal

The FAA is proposing to amend 14 CFR part 71 by amending VOR Federal Airways V-161, V-163, and V-568; and establishing United States RNAV Route T-545. This action is required due to the planned decommissioning of the VOR portion of the Three Rivers, TX, VORTAC NAVAID. The proposed Air Traffic Service (ATS) route actions are described below.

V-161: V-161 currently extends between the Three Rivers, TX, VORTAC and the Center Point, TX, VORTAC; between the Millsap, TX, VORTAC and the Tulsa, OK, VORTAC; and between the Butler, MO, VORTAC and the Gopher, MN, VORTAC. The FAA proposes to remove the airway segment between the Three Rivers VORTAC and the Center Point VORTAC. As amended, the airway would be changed to extend between the Millsap VORTAC and the Tulsa VORTAC, and between the Butler VORTAC and the Gopher VORTAC.

V-163: V-163 currently extends between the Matamoros, Mexico, VOR/Distance Measuring Equipment (VOR/DME) and the Gooch Springs, TX, VORTAC. The airspace within Mexico is excluded. The FAA proposes to amend the airway by removing the Three Rivers, TX, VORTAC and the intersection of the Three Rivers VORTAC 345° and San Antonio, TX, VORTAC 168° radials (YENNS Fix) route points and replacing them with a new route point at the intersection of the Corpus Christi, TX, VORTAC 314° True (T)/305° Magnetic (M) and San Antonio VORTAC 168°(T)/160°(M) radials (SLENA Fix). Additionally, the airway width reduction between the Brownsville, TX, VORTAC and the Corpus Christi VORTAC would be removed as it is no longer needed. As amended, the airway would continue to extend between the Matamoros, Mexico, VOR/DME and the Gooch Springs VORTAC. The airspace within Mexico would continue to be excluded.

V-568: V-568 currently extends between the Corpus Christi, TX, VORTAC and the Stonewall, TX, VORTAC; and between the Millsap, TX, VORTAC and the Wichita Falls, TX, VORTAC. The FAA proposes to remove the airway segment between the Corpus Christi VORTAC and the San Antonio, TX, VORTAC. As amended, the airway would be changed to extend between the San Antonio VORTAC and the Stonewall VORTAC, and between the Millsap VORTAC and the Wichita Falls VORTAC.

T-545: T-545 is a new United States RNAV route proposed to be established extending between the Brownsville, TX, VORTAC and the Gooch Springs, TX, VORTAC. The new route would provide an RNAV alternative to the proposed V-163 airway segment amendment between the Corpus Christi, TX, VORTAC and the San Antonio, TX, VORTAC. Additionally, the route would also provide positive RNAV navigational guidance for aircraft to remain clear of the Kingsville 4, TX, and the Randolph 1B, TX, MOAs.

Regulatory Notices and Analyses

The FAA has determined that this proposed regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f); 40103, 40113, 40120; E.O. 10854, 24 FR 9565, 3 CFR, 1959-1963 Comp., p. 389.

§ 71.1 [Amended]

2. The incorporation by reference in 14 CFR 71.1 of FAA Order JO 7400.11J, Airspace Designations and Reporting Points, dated July 31, 2024, and effective September 15, 2024, is amended as follows:

Paragraph 6010(a) Domestic VOR Federal Airways.

* * * * *

V-161 [Amended]

From Millsap, TX; Bowie, TX; Ardmore, OK; Okmulgee, OK; to Tulsa, OK. From Butler, MO; Napoleon, MO; Lamoni, IA; Des Moines, IA; Mason City, IA; Rochester, MN; Farmington, MN; to Gopher, MN.

* * * * *

V-163 [Amended]

From Matamoros, Mexico; Brownsville, TX; Corpus Christi, TX; INT Corpus Christi 314°(T)/305°(M) and San Antonio, TX, 168°(T)/160°(M) radials; San Antonio; to Gooch Springs, TX. The airspace within Mexico is excluded.

* * * * *

V-568 [Amended]

From San Antonio, TX; to Stonewall, TX. From Millsap, TX; to Wichita Falls, TX.

* * * * *

Paragraph 6011 United States Area Navigation Routes.

* * * * *

T-545 Brownsville, TX (BRO) to Gooch Springs, TX (AGJ) [New]
Brownsville, TX (BRO) | VORTAC | (Lat. 25°55′26.66″ N, long. 097°22′30.97″ W)
Corpus Christi, TX (CRP) | VORTAC | (Lat. 27°54′13.56″ N, long. 097°26′41.57″ W)
SLENA, TX | FIX | (Lat. 28°32′38.31″ N, long. 098°11′47.89″ W)
San Antonio, TX (SAT) | VORTAC | (Lat. 29°38′38.51″ N, long. 098°27′40.74″ W)
Gooch Springs, TX (AGJ) | VORTAC | (Lat. 31°11′07.82″ N, long. 098°08′30.69″ W)

* * * * *

Issued in Washington, DC, on December 11, 2024.
Richard Lee Parks,
Manager (A), Rules and Regulations Group.

[FR Doc. 2024-29514 Filed 12-13-24; 8:45 am]

BILLING CODE 4910-13-P